DEPARTMENT OF DEFENSE

Office of the Secretary

U.S. Strategic Command Strategic Advisory Group; Notice of Advisory Committee Closed Meeting; Cancellation

AGENCY: Office of the Chairman Joint Chiefs of Staff, Department of Defense (DoD).

ACTION: Notice of Federal Advisory Committee; cancellation.

SUMMARY: On Monday, October 28, 2019 the DoD published a notice announcing a meeting of the U.S. Strategic Command Strategic Advisory Group that was to take place on Tuesday, November 19, 2019 to Wednesday, November 20, 2019. Due to schedule conflicts, the DoD is cancelling the November 19-20 meeting.

ADDRESSES: Mailing address is 901 SAC Boulevard, Suite 1F7, Offutt AFB, NE 68113-6030.

FOR FURTHER INFORMATION CONTACT: Mr. John L. Trefz, Jr., Designated Federal Officer, (402) 294-4102 (Voice), (402) 294-3128 (Facsimile), john.l.trefz.civ@mail.mil (Email).

SUPPLEMENTARY INFORMATION: Due to circumstances beyond the control of the Department of Defense and the Designated Federal Officer, the U.S. Strategic Command Strategic Advisory Group was unable to provide sufficient public notification required by 41 CFR 102-3.150(a) concerning the cancellation of its previously noticed November 19-20, 2019 meeting. Accordingly, the Advisory Committee Management Officer for the Department of Defense, pursuant to 41 CFR 102-3.150(b), waives the 15-calendar day notification requirement.

Dated: November 7, 2019.
Aaron T. Siegel,
Alternate OSD Federal Register Liaison Officer, Department of Defense.

[FR Doc. 2019-24690 Filed 11-13-19; 8:45 am]

BILLING CODE 5001-06-P